DEPARTMENT OF AGRICULTURE

National Agricultural Statistics Service

Notice of the Advisory Committee on Agriculture Statistics Meeting

AGENCY: National Agricultural Statistics Service, USDA.

ACTION: Notice of meeting.

SUMMARY: In accordance with the Federal Advisory Committee Act, 5 U.S.C. App. c10, the National Agricultural Statistics Service (NASS) announces a meeting of the Advisory Committee on Agriculture Statistics.

FOR FURTHER INFORMATION CONTACT: Carol House, Executive Director, Advisory Committee on Agriculture Statistics, U.S. Department of Agriculture, National Agricultural Statistics Service, 1400 Independence Avenue SW., Room 4117 South Building, Washington, DC 20250-2000. Telephone: (202) 720-4333, Fax: (202) 720-9013, or e-mail: chouse@nass.usda.gov.

SUPPLEMENTARY INFORMATION: The Advisory Committee on Agriculture Statistics, which consists of 25 members appointed from 7 categories covering a broad range of agricultural disciplines and interests, has scheduled a meeting on February 22-23, 2005. During this time the Advisory Committee will discuss topics including Census of Agriculture, NASS Special Activities, Publications, Accomplishments for 2004, Subcommittee reports, and Agriculture Finance.

Dates and Locations: The Committee meeting will be held 1 p.m.-4:30 p.m. on Tuesday, February 22, and 8 a.m.-4:30 p.m. on Wednesday, February 23, with an opportunity for public questions and comments at 3:30 p.m. on February 23, the Marriott Crystal City at Reagan National Airport, 1999 Jefferson Davis Highway, Arlington, Virginia 22202.

Type of Meeting: Open to the public.

Comments: The public may file written comments to the USDA Advisory Committee contact person before or within a reasonable time after the meeting. All statements will become a part of the official records of the USDA Advisory Committee on Agriculture Statistics and will be kept on file for public review in the office of the Executive Director, Advisory Committee on Agriculture Statistics, U.S. Department of Agriculture, Washington, DC 20250.

Dated January 25, 2005, at Washington, DC.
R. Ronald Bosecker,
Administrator, National Agricultural Statistics Service.

[FR Doc. 05-2279 Filed 2-4-05; 8:45 am]

BILLING CODE 3410-20-P